DEPARTMENT OF DEFENSE

Office of the Secretary

Defense Innovation Board; Notice of Cancellation of Federal Advisory Committee Meeting

AGENCY: Under Secretary of Defense for Research & Engineering, Department of Defense (DoD).

ACTION: Notice of cancellation of Federal Advisory Committee meeting.

SUMMARY: On June 9, 2020, the DoD published a notice announcing the next meeting of the Defense Innovation Board (“the Board”) on June 23, 2020, from 2:00 p.m. to 4:00 p.m. Eastern Standard Time (EST). The DoD is publishing this notice to announce that this Federal advisory committee meeting has been cancelled, due to ongoing challenges created by the COVID-19 pandemic.

DATES: Tuesday, June 23, 2020, from 2:00 p.m. to 4:00 p.m. Eastern Standard Time (EST)—CANCELLED.

FOR FURTHER INFORMATION CONTACT: Ms. Colleen Laughlin, (571) 372-0933 (Voice), colleen.r.laughlin.civ@mail.mil or osd.innovation@mail.mil (Email).

SUPPLEMENTARY INFORMATION: On June 9, 2020 (85 FR 35293-35294), the DoD published a notice announcing the next meeting of the Board on June 23, 2020, from 2:00 p.m. to 4:00 p.m. Eastern Standard Time (EST). DoD is publishing this notice to announce that this federal advisory committee meeting has been cancelled at this time and will be re-scheduled at a later date. The rescheduled meeting will be announced in the Federal Register.

Due to circumstances beyond the control of the Department of Defense and the Designated Federal Officer, the Defense Innovation Board was unable to provide public notification required by 41 CFR 102-3.150(a) concerning the cancellation of its previously noticed meeting on June 23, 2020. Accordingly, the Advisory Committee Management Officer for the Department of Defense, pursuant to 41 CFR 102-3.150(b), waives the 15-calendar day notification requirement.

Dated: June 19, 2020.
Aaron T. Siegel,
Alternate OSD Federal Register Liaison Officer, Department of Defense.

[FR Doc. 2020-13644 Filed 6-23-20; 8:45 am]

BILLING CODE 5001-06-P